DEPARTMENT OF HEALTH AND HUMAN SERVICES

Office of the National Coordinator for Health Information Technology; American Health Information Community Chronic Care Workgroup Meeting

ACTION: Announcement of meeting.

SUMMARY: This notice announces the 13th meeting of the American Health Information Community Chronic Care Workgroup in accordance with the Federal Advisory Committee Act (Pub. L. No. 92-463, 5 U.S.C.; App.)

DATES: February 15, 2007, from 1 p.m. to 4 p.m.

ADDRESSES: Mary C. Switzer Building (330 C Street, SW., Washington, DC 20201), Conference Room 4090 (please bring photo ID for entry to a Federal building).

FOR FURTHER INFORMATION: http://www.hhs.gov/healthit/ahic/chroniccare/.

SUPPLEMENTARY INFORMATION: The Workgroup will continue to discuss possible Recommendations to the American Health Information Community, and medical/legal issues and challenges facing the use of remote monitoring and secure messaging technologies.

The meeting will be available via Internet access. For additional information, go to http://www.hhs.gov/healthit/ahic/chroniccare/cc_instruct.html.

Dated: January 24, 2007.
Judith Sparrow,
Director, American Health Information Community, Office of Programs and Coordination, Office of the National Coordinator for Health Information Technology.

[FR Doc. 07-394 Filed 1-29-07; 8:45 am]

BILLING CODE 4150-24-M